DEPARTMENT OF COMMERCE

National Oceanic and Atmospheric Administration

[I.D.080900C]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held on September 6, 2000 through September 11, 2000. See SUPPLEMENTARY INFORMATION for specific dates and times.

ADDRESSES: All meetings will be held at the Anchorage Sheraton Hotel, 401 E. Sixth Avenue, Anchorage, AK.

Council address: North Pacific Fishery Management Council, 605 W. 4th Ave., Suite 306, Anchorage, AK 99501-2252.

FOR FURTHER INFORMATION CONTACT: Council staff, telephone: 907-271-2809.

SUPPLEMENTARY INFORMATION: The Council's Advisory Panel will begin at 8:00 a.m., Wednesday, September 6, and continue through Friday, September 8. The Scientific Committee will begin at 8:00 a.m. on Wednesday, September 6, and continue through Thursday, September 7.

The Council will begin their plenary session at 8:00 a.m. on Friday, September 8, continuing through Monday, September 11.

All meetings are open to the public except Executive Sessions which may be held during the week to discuss litigation and/or personnel matters.

Council

The agenda for the Council's plenary session will include the following issues. The Council may take appropriate action on any of the issues identified.

1. Oath of office to newly appointed members.

2. Election of officers.

3. Reports.

(a) Executive Director's report.

(b) Magnuson-Stevens Act reauthorization issues.

(c) Socio-economic Data Committee report.

(d) Report on the stakeholder process for Habitat Areas of Particular Concern (HAPC).

(e) Report on the status of Western Alaska salmon stocks.

4. Observer Program:

(a) Report on independent review of the North Pacific Groundfish Observer Program.

(b) Report from the Council's Observer Advisory Committee and Council discussion of program.

5. Initial review of amendment analyses on Steller sea lion/Pacific cod interactions and provide comments to NMFS.

6. Review of discussion paper and final action on crab processing sideboards.

7. Final action on amendment to prohibit non-pelagic trawl gear in Cook Inlet.

Advisory Meetings

Advisory Panel: The agenda for the Advisory Panel will mirror that of the Council listed above, with the exception of the oath of office and election of officers.

Scientific and Statistical Committee: The Scientific and Statistical Committee will address the following items on the Council agenda:

1. Observer Program issues.

2 Steller sea lion/Pacific cod interactions.

3. HAPC stakeholder process.

4. Socio-economic Data Committee report.

Other Committee/Workgroup & Industry Meetings

During the meeting week, the following groups will hold meetings to discuss various agenda issues of interest:

Crab Cooperative Industry Meeting: Thursday, September 7, 2000, 6:30 p.m.

Council/Alaska Board of Fisheries Joint Committee: Thursday, September 7, 2000, at 1:00 p.m. (Agenda will be posted on Council website: www.fakr.noaa.gov/npfmc)

Other committees and workgroups may hold impromptu meetings throughout the meeting week. Such meetings will be announced during regularly-scheduled meetings of the Council, Advisory Panel, and SSC, and will be posted at the hotel.

Although non-emergency issues not contained in this agenda may come before this Council for discussion, in accordance with the Magnuson-Stevens Fishery Conservation and Management Act, those issues may not be the subject of formal Council action during this meeting. Council action will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Helen Allen at 907-271-2809 at least 7 working days prior to the meeting date.

Dated: August 10, 2000.
Richard W. Surdi,
Acting Director, Office of Sustainable Fisheries, National Marine Fisheries Service.

[FR Doc. 00-20705 Filed 8-15-00; 8:45 am]

BILLING CODE 3510-22-F